DEPARTMENT OF THE TREASURY

Internal Revenue Service

Open Meeting of the Taxpayer Advocacy Panel's Notices and Correspondence Project Committee

AGENCY: Internal Revenue Service (IRS), Treasury.

ACTION: Notice of meeting.

SUMMARY: An open meeting of the Taxpayer Advocacy Panel's Notices and Correspondence Project Committee will be conducted. The Taxpayer Advocacy Panel is soliciting public comments, ideas, and suggestions on improving customer service at the Internal Revenue Service. Due to the recent lifting of pandemic travel restrictions and other unavoidable circumstances, we will not be able to meet the 15-calendar notice threshold. This meeting will be held via teleconference.

DATES: The meeting will be held Thursday, April 13, 2023.

FOR FURTHER INFORMATION CONTACT: Ann Tabat at 1-888-912-1227 or (602) 636-9143.

SUPPLEMENTARY INFORMATION: Notice is hereby given pursuant to Section 10(a)(2) of the Federal Advisory Committee Act, 5 U.S.C. App. (1988) that an open meeting of the Taxpayer Advocacy Panel's Notices and Correspondence Project Committee will be held Thursday, April 13, 2023, at 3:00 p.m. Eastern Time. The public is invited to make oral comments or submit written statements for consideration. Due to limited time and structure of meeting, notification of intent to participate must be made with Ann Tabat. For more information, please contact Ann Tabat at 1-888-912-1227 or (602) 636-9143, or write TAP Office, 4041 N Central Ave., Phoenix, AZ 85012 or contact us at the website: http://www.improveirs.org. The agenda includes: Welcoming; Roll Call; Agenda Review; Designated Federal Officer Report; National Office Report; Chair Report; Minute Review Approval/Denial; Public Comment; Subcommittee Reports; Outreach Report; Screening Report; Internal Communications Briefing; Action Items; Roundtable; and Closing.

Dated: March 31, 2023.
Kevin Brown,
Acting Director, Taxpayer Advocacy Panel.

[FR Doc. 2023-07155 Filed 4-5-23; 8:45 am]

BILLING CODE 4830-01-P